DEPARTMENT OF JUSTICE

[OMB Number 1121—NEW]

Agency Information Collection Activities; Proposed Collection; Comments Requested; New Collection: 2013 Census of Federal, State, and Local Law Enforcement Agencies

ACTION: 60-day notice.

The Department of Justice (DOJ), Office of Justice Programs, Bureau of Justice Statistics, will be submitting the following information collection request to the Office of Management and Budget (OMB) for review and approval in accordance with the Paperwork Reduction Act of 1995. The proposed information collection is published to obtain comments from the public and affected agencies. Comments are encouraged and will be accepted for 60 days until December 24, 2013. This process is conducted in accordance with 5 CFR 1320.10.

If you have additional comments especially on the estimated public burden or associated response time, suggestions, or need a copy of the proposed information collection instrument with instructions or additional information, please contact Andrea Burch, Statistician, Bureau of Justice Statistics, 810 Seventh Street NW., Washington, DC 20531 (phone: 202-307-1138).

Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Reinstatement, with change, of a previously approved collection for which approval has expired.

2. The Title of the Form/Collection: 2013 Census of Federal, State, and Local Law Enforcement Agencies (Census).

3. The agency form number, if any, and the applicable component of the Department sponsoring the collection: The form numbers is CJ-38. The applicable component within the Department of Justice is the Bureau of Justice Statistics, Office of Justice Programs.

4. Affected public who will be asked or required to respond, as well as a brief abstract: This information collection is a census of federal, state, and local publically-funded law enforcement agencies that employ the equivalent of one full-time sworn personnel with general arrest powers. The information will provide national statistics on the number of sworn and civilian personnel by type of agency and functions performed by each agency.

5. An estimate of the total number of respondents and the amount of time estimated for an average respondent to respond: A projected 18,000 state and local respondents will take an average of 60 minutes each to complete form CJ-38. In addition, 75 federal respondents will take an average of 30 minutes to complete a shortened version of the CJ-38.

6. An estimate of the total public burden (in hours) associated with the collection: There are an estimated 18,038 total burden hours associated with this collection.

If additional information is required contact: Jerri Murray, Department Clearance Officer, United States Department of Justice, Justice Management Division, Policy and Planning Staff, Two Constitution Square, 145 N Street NE., Room 3W-1407B, Washington, DC 20530.

Dated: October 22, 2013.
Jerri Murray,
Department Clearance Officer, PRA, U.S. Department of Justice.

[FR Doc. 2013-25161 Filed 10-24-13; 8:45 am]

BILLING CODE 4410-18-P